DEPARTMENT OF TRANSPORTATION

Maritime Administration

[Docket No. MARAD-2025-0960]

Request for Comments on the Renewal of a Previously Approved Information Collection: Application for Conveyance of Port Facility Property

AGENCY: Maritime Administration (MARAD), U.S. Department of Transportation (DOT).

ACTION: Notice.

SUMMARY: MARAD invites public comments on its intention to request approval from the Office of Management and Budget (OMB) to renew an information collection in accordance with the Paperwork Reduction Act of 1995. The proposed information collection 2133-0524 (Application for Conveyance of Port Facility Property) is used to determine if an applicant is committed to a port redevelopment plan, the plan is in the best interests of the public, and the property for development will be used in accordance with the terms of port conveyance and applicable statutes and regulations. MARAD is required to publish this notice in the Federal Register to obtain comments from the public and affected agencies.

DATES: Comments must be submitted on or before February 9, 2026.

ADDRESSES: You may submit comments identified by Docket No. MARAD-2025-0960 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9:00 a.m. and 5:00 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize or include your comments in the request for OMB's clearance of this information collection.

FOR FURTHER INFORMATION CONTACT: Dr. Linden Houston, 202-366-4839, Maritime Administration, Office of Deepwater Ports and Port Conveyance, 1200 New Jersey Avenue SE, (MAR-530), Washington, DC 20590, Email: Linden.Houston@dot.gov.

SUPPLEMENTARY INFORMATION:

Title: Application for Conveyance of Port Facility Property.

OMB Control Number: 2133-0524.

Type of Request: Extension without change of a previously approved information collection.

Abstract: Public Law 103-160, as applied by 40 U.S.C. 554, authorizes the Department of Transportation to convey to public entities surplus Federal property needed for the development or operation of a port Facility. This information collection allows MARAD to approve the conveyance of property and administer the port facility conveyance program.

Respondents: Eligible state and local public entities.

Affected Public: State, Local or Tribal Government and Not-for-profit institutions.

Estimated Number of Respondents: 13.

Estimated Number of Responses: 13.

Estimated Hours per Response: 44.

Annual Estimated Total Annual Burden Hours: 572.

Frequency of Response: Annually.

(Authority: The Paperwork Reduction Act of 1995; 44 U.S.C. Chapter 35, as amended; and 49 CFR 1.49.)

By Order of the Maritime Administration.
Gabriel Chavez,
Secretary, Maritime Administration.

[FR Doc. 2025-22465 Filed 12-10-25; 8:45 am]

BILLING CODE 4910-81-P